DEPARTMENT OF COMMERCE

National Oceanic and Atmospheric Administration

50 CFR Part 217

[Docket No. 240524-0146]

RIN 0648-BL96

Takes of Marine Mammals Incidental to Specified Activities; Taking Marine Mammals Incidental to the New England Wind Project, Offshore Massachusetts; Correction

AGENCY: National Marine Fisheries Service (NMFS), National Oceanic and Atmospheric Administration (NOAA), Commerce.

ACTION: Final rule; correction.

SUMMARY: This document contains corrections to a final rule. The document being corrected is the regulations governing the Takes of Marine Mammals Incidental to Specified Activities; Taking Marine Mammals Incidental to the New England Wind Project, Offshore Massachusetts, published on June 21, 2024.

DATES: Effective on March 27, 2025.

FOR FURTHER INFORMATION CONTACT: Karolyn Lock, Office of Protected Resources, NMFS, (301) 427-8401.

SUPPLEMENTARY INFORMATION:

Background

NMFS published a final rule in the Federal Register on June 21, 2024 (89 FR 52222) announcing the promulgation of regulations governing the incidental take of marine mammals incidental to Avangrid Renewables, LLC's (Avangrid), construction of the New England Wind Project in Federal and State waters offshore Massachusetts, specifically within the Bureau of Ocean Energy Management (BOEM) Commercial Lease of Submerged Lands for Renewable Energy Development on the Outer Continental Shelf (OCS) Lease Areas (OCS-A 0534 and OCS-A 0561) and the southwest (SW) portion of Lease Area OCS-A 0501 (collectively referred to as the Lease Area), and along an export cable routes to sea-to-shore transition points (collectively, the Project Area), valid for 5 years from the date of effectiveness.

The regulations, which allow for the issuance of a Letter of Authorization to Avangrid for the incidental take of marine mammals during the specified activities within the specified geographical region during the effective dates of the regulations, prescribe the permissible methods of taking and other means of effecting the least practicable adverse impact on marine mammal species or stocks and their habitat, as well as requirements pertaining to the monitoring and reporting of such taking. NMFS refers the reader to the final rule (89 FR 52222, June 21, 2024) for background information concerning the regulations.

The following corrections are being made:

• The regulations contained an inconsistency between the headings for 50 CFR 217.325 wherein the heading in the table of contents did not agree with the text of the section, necessitating relabeling.

• 50 CFR 217.324(c)(15)(xiv) was promulgated twice (i.e., two different measures were both designated as 50 CFR 217.324(c)(15)(xiv), necessitating renumbering).

Correction

Subpart GG [Corrected]

1. In rule document 2024-12085 at 89 FR 52222 in the issue of June 21, 2024, on page 52301, in the first column, in the table of contents for Subpart GG, correct the entry for 50 CFR 217.325 to read as 50 CFR 217.325 Monitoring and reporting requirements.

§ 217.324 [Corrected]

2. On page 52308, in the first column, the second paragraph (c)(15)(xiv) is corrected to read as follows: (xv) LOA Holder must conduct SFV measurements during turbine operations to estimate turbine operational source levels and transmission loss rates, in accordance with a NMFS-approved SFV Plan.

Dated: September 24, 2024.
Kimberly Damon-Randall,
Director, Office of Protected Resources, National Marine Fisheries Service.

[FR Doc. 2024-22307 Filed 9-30-24; 8:45 am]

BILLING CODE 3510-22-P